Title 3—

The President

Proclamation 7423 of April 9, 2001

Jewish Heritage Week, 2001

By the President of the United States of America

A Proclamation

Americans have long cherished our identity as a Nation of immigrants. The shared values and aspirations of those who have come to America's shores have helped to shape our culture, laws, and government.

The Jewish community has played a vital role in our Nation's history, tracing back to colonial times. Many were active in supporting the Revolutionary War and in settling new territories and cities during America's westward expansion. Although initially a small community, in time, millions of Jewish men, women, and children followed. In fleeing persecution, pogroms, and the horrors of the Holocaust, they sought a new life in the United States where they could worship in freedom and pursue their hopes and dreams in peace. The many oppressions historically borne by the Jewish people remind us that we must remain committed to religious liberty and tolerance for all.

As we celebrate Jewish Heritage Week, we also recall the lasting contributions that Jewish Americans have made to the arts, education, industry, and science. Many of their names are inscribed in America's textbooks, and the Jewish community's rich heritage and culture continues to enrich our society's national fabric. In many communities large and small, Jewish families have shared their resources, time, and talent to help others. Their contributions to our national life and character help make America a better place.

NOW, THEREFORE, I, GEORGE W. BUSH, President of the United States of America, by virtue of the authority vested in me by the Constitution and laws of the United States, do hereby proclaim April 22 through 29, 2001, as Jewish Heritage Week. I urge all Americans to join in observing this week with appropriate programs, ceremonies, and activities.

IN WITNESS WHEREOF, I have hereunto set my hand this ninth day of April, in the year of our Lord two thousand one, and of the Independence of the United States of America the two hundred and twenty-fifth.

B

[FR Doc. 01-9151

Filed 4-10-01; 8:45 am]

Billing code 3195-01-P